DEPARTMENT OF TRANSPORTATION

Federal Aviation Administration

14 CFR Part 39

[Docket No. FAA-2009-1107; Directorate Identifier 2009-NM-138-AD; Amendment 39-16202; AD 2010-04-09]

RIN 2120-AA64

Airworthiness Directives; Airbus Model A330-200 Series Airplanes and Model A340-200 and -300 Series Airplanes

Correction

In rule document 2010-3119 beginning on page 7940 in the issue of February 23, 2010, make the following correction:

On page 7941, in the second column, under the header “Applicability,” item (1) should read: “(1) Airbus Model A330-201, -202, -203, -223, and -243 airplanes, all manufacturer serial numbers.”

[FR Doc. C1-2010-3119 Filed 3-2-10; 8:45 am]

BILLING CODE 1505-01-D